DEPARTMENT OF THE INTERIOR

Fish and Wildlife Service

Notice of Receipt of Applications for Permit

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address below) and must be received within 30 days of the date of this notice.

Applicant: Susan Gardner, c/o U.S. Environmental Protection Agency, Cincinnati, OH, PRT-046123.

The applicant requests a permit to import samples obtained opportunistically from Mexico of salvaged carcasses of wild olive ridley sea turtle, Lepidochelys olivacea, and green sea turtle, Chelonia mydas, for the purposes of scientific research. This notification covers activities conducted by the applicant over a five-year period.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Written data, comments, or requests for copies of these complete applications or requests for a public hearing on these applications should be submitted to the Director (address below) and must be received within 30 days of the date of this notice. Anyone requesting a hearing should give specific reasons why a hearing would be appropriate. The holding of such a hearing is at the discretion of the Director.

Applicant: Steven A. Reedy, Terre Haute, IN, PRT-042516.

The applicant requests a permit to import a polar bear (Ursus maritimus) sport hunted from the Southern Beaufort Sea polar bear population in Canada for personal use.

Applicant: Steve Tennant, Terre Haute, IN, PRT-046729

The applicant requests a permit to import a polar bear (Ursus maritimus) sport hunted from the Southern Beaufort Sea polar bear population in Canada for personal use.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: August 10, 2001.
Monica Farris,
Senior Biologist, Branch of Permits, Division of Management Authority.

[FR Doc. 01-21038 Filed 8-20-01; 8:45 am]

BILLING CODE 4310-55-P